DEPARTMENT OF ENERGY

[OE Docket No. EA-494]

Application To Export Electric Energy; Tidal Energy Marketing (U.S.) L.L.C.

AGENCY: Office of Electricity, Department of Energy.

ACTION: Notice of application.

SUMMARY: Tidal Energy Marketing (U.S.) L.L.C. (Applicant or Tidal U.S.) has applied for authorization to transmit electric energy from the United States to Canada pursuant to the Federal Power Act.

DATES: Comments, protests, or motions to intervene must be submitted on or before February 14, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On December 28, 2021, Tidal U.S. filed an application with DOE (Application or App.) to “transmit and export electricity from the United States to Canada for a period of ten years or such period as the Department may authorize for similarly situated power marketers.” App. at 1. Tidal U.S. states that it “is a Delaware limited liability company with its principal place of business in Houston, Texas.” Id. at 2. Tidal U.S. adds that it “is an indirect, wholly-owned subsidiary of Enbridge, Inc. (`Enbridge'), a publicly-traded corporation based in Calgary, Alberta, Canada.” Id. Tidal U.S. represents that it “does not own or control electric generation or transmission facilities and does not have a franchised electric power area within the United States or Canada.” Id.

Tidal U.S. further claims that it would “purchase the power it plans to export voluntarily from electric utilities, wholesale generators, power marketers and other parties and thus such power will be surplus to the needs of the selling parties.” App. at 4-5. Tidal U.S. contends that its proposed exports would “not impair or tend to impede the sufficiency of electric power supplies in the United States or the regional coordination of electric utility planning or operation.” Id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Tidal U.S.'s application to export electric energy to Mexico should be clearly marked with OE Docket No. EA-494. Additional copies are to be provided directly to Mollie Ronemous, 5400 Westheimer Court, Houston, TX 77056, mollie.ronemous@enbridge.com; Catherine M. Krupka, 700 Sixth Street NW, Suite 700, Washington, DC 20001, catherinekrupka@eversheds-sutherland.com; and Allison E. Speaker, 700 Sixth Street NW, Suite 700, Washington, DC 20001, allisonspeaker@eversheds-sutherland.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on January 10, 2022.
Christopher Lawrence,
Management and Program Analyst, Electricity Delivery Division, Office of Electricity.

[FR Doc. 2022-00671 Filed 1-13-22; 8:45 am]

BILLING CODE 6450-01-P